DEPARTMENT OF TRANSPORTATION

Federal Aviation Administration

14 CFR Part 39

[Docket No. FAA-2004-18038; Directorate Identifier 2004-NE-01-AD]

RIN 2120-AA64

Airworthiness Directives; Honeywell International Inc., (Formerly AlliedSignal, Inc., Formerly Textron Lycoming) T5309, T5311, T5313B, T5317A, T5317A-1, and T5317B Series, and T53-L-9, T53-L-11, T53-L-13B, T53-L-13BA, T53-L-13B S/SA, T53-L-13B S/SB, T53-L-13B/D, and T53-L-703 Series Turboshaft Engines

AGENCY: Federal Aviation Administration (FAA), DOT.

ACTION: Notice of proposed rulemaking (NPRM).

SUMMARY: The FAA proposes to adopt a new airworthiness directive (AD) for Honeywell International Inc. (formerly AlliedSignal, Inc., formerly Textron Lycoming), T5309, T5311, T5313B, T5317A, T5317A-1, and T5317B series turboshaft engines, installed on, but not limited to, Bell 205 and Kaman K-1200 series helicopters, and T53-L-9, T53-L-11, T53-L-13B, T53-L-13BA, T53-L-13B S/SA, T53-L-13B S/SB, T53-L-13B/D, and T53-L-703 series turboshaft engines, installed on, but not limited to, Bell AH-1 and UH-1 helicopters, certified under § 21.25 or 21.27 of the Code of Federal Regulations (14 CFR 21.25 or 14 CFR 21.27). This proposed AD would require operators to remove from service affected compressor, gas producer, and power turbine rotating components at reduced life limits, and would require use of replacement drawdown schedules for components on certain engine models that exceed the new limits. This proposal results from continuous analysis of field-returned hardware indicating smaller service life margins than originally expected. We are proposing this AD to prevent failure of the compressor, gas producer, and power turbine rotating components which could result in an uncontained failure of the engine and damage to the helicopter.

DATES: We must receive any comments on this proposed AD by August 16, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

You can get the service information identified in this proposed AD from Honeywell International Inc., Attn: Data Distribution, M/S 64-3/2101-201, P.O. Box 29003, Phoenix, AZ 85038-9003; telephone: (602) 365-2493; fax: (602) 365-5577.

You may examine the comments on this proposed AD in the AD docket on the Internet at http://dms.dot.gov.

FOR FURTHER INFORMATION CONTACT: Robert Baitoo, Aerospace Engineer, Los Angeles Aircraft Certification Office, FAA, Transport Airplane Directorate, 3960 Paramount Blvd., Lakewood, CA 90712-4137; telephone: (562) 627-5245, fax: (562) 627-5210.

SUPPLEMENTARY INFORMATION:

Docket Management System (DMS)

We have implemented new procedures for maintaining AD dockets electronically. As of May 17, 2004, we posted new AD actions on the DMS and assigned a DMS docket number. We track each action and assign a corresponding Directorate identifier. The DMS docket No. is in the form “Docket No. FAA-200X-XXXXX.” Each DMS docket also lists the Directorate identifier (“Old Docket Number”) as a cross-reference for searching purposes.

Comments Invited

We invite you to submit any written relevant data, views, or arguments regarding this proposal. Send your comments to an address listed under ADDRESSES. Include “Docket No. FAA-2004-18038; Directorate Identifier 2004-NE-01-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the AD Docket

You may examine the docket that contains the proposal, any comments received and, any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Discussion

Honeywell International Inc. (formerly AlliedSignal Inc., formerly Textron Lycoming), has advised us that continuous analysis of field-returned hardware indicates smaller service life margins than originally intended for certain compressor, gas producer, and power turbine rotating components installed in T5309, T5311, T5313B, T5317A, T5317A-1, and T5317B series turboshaft engines, which are installed on, but not limited to, Bell 205 and Kaman K-1200 series helicopters, and T53-L-9, T53-L-11, T53-L-13B, T53-L-13BA, T53-L-13B S/SA, T53-L-13B S/SB, T53-L-13B/D, and T53-L-703 series turboshaft engines, installed on, but not limited to, Bell AH-1 and UH-1 helicopters, certified under § 21.25 or 21.27 of the Code of Federal Regulations (14 CFR 21.25 or 14 CFR 21.27). This condition, if not corrected, could result in uncontained failure of the engine due to fatigue-cracked engine rotor disks.

Relevant Service Information

We have reviewed and approved the technical contents of the following service bulletins (SBs) that describe reduced limits for removal from service of affected compressor, gas producer, and power turbine rotating components:

• Lycoming SB No. 0002, Revision 2, dated March 6, 1989.

• Honeywell International Inc. SB No. T5313B/17-0020, Revision 7, dated November 21, 2002.

• Honeywell International Inc. SB No. T53-L-13B-0020, Revision 3, dated October 25, 2001.

• Honeywell International Inc. SB No. T53-L-13B/D-0020, Revision 2, dated November 25, 2002.

• Honeywell International Inc. SB No. T53-L-703-0020, Revision 2, dated November 25, 2002.

We have also reviewed and approved the technical contents of the following SBs that describe replacement drawdown schedules for components that exceed new limits listed in the SBs.

• Honeywell International Inc. SB No. T5313B-0125, dated March 15, 2001.

• Honeywell International Inc. SB No. T5317-0125, dated March 15, 2001.

• Honeywell International Inc. SB No. T53-L-13B-0125, dated April 5, 2001.

• Honeywell International Inc. SB No. T53-L-13B/D-0125, dated April 5, 2001.

• Honeywell International Inc. SB No. T53-L-703-0125, dated April 5, 2001.

FAA's Determination and Requirements of the Proposed AD

We have evaluated all pertinent information and identified an unsafe condition that is likely to exist or develop on other products of this same type design. Therefore, we are proposing this AD, which would:

• Require operators to remove from service affected compressor, gas producer, and power turbine rotating components at reduced life limits; and

• Require use of replacement drawdown schedules for affected components that exceed the new limits.

The FAA Engine & Propeller Directorate has coordinated the reduced life limits for engines installed on surplus military aircraft certified under § 21.25 or 21.27 of the Code of Federal Regulations (14 CFR 21.25 or 14 CFR 21.27), with the FAA Rotorcraft Directorate. The proposed AD would require you to use the service information described previously to perform these actions.

Costs of Compliance

There are about 4,500 Honeywell International Inc. (formerly AlliedSignal, Inc., formerly Textron Lycoming), T5309, T5311, T5313B, T5317A, T5317A-1, and T5317B series turboshaft engines, installed on, but not limited to, Bell 205 and Kaman K-1200 series helicopters, and T53-L-9, T53-L-11, T53-L-13B, T53-L-13BA, T53-L-13B S/SA, T53-L-13B S/SB, T53-L-13B/D, and T53-L-703 series turboshaft engines, installed on, but not limited to, Bell AH-1 and UH-1 helicopters, certified under § 21.25 or 21.27 of the Code of Federal Regulations (14 CFR 21.25 or 14 CFR 21.27), of the affected design in the worldwide fleet. We estimate that 300 engines installed on helicopters of U.S. registry would be affected by this proposed AD, and that the prorated cost of the life reduction per engine would be about $250,000. Based on these figures, we estimate the total cost of the proposed AD to U.S. operators to be $75,000,000.

Regulatory Findings

We have determined that this proposed AD would not have federalism implications under Executive Order 13132. This proposed AD would not have a substantial direct effect on the States, on the relationship between the national government and the States, or on the distribution of power and responsibilities among the various levels of government.

For the reasons discussed above, I certify that the proposed regulation: 1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honeywell International Inc. (formerly AlliedSignal, Inc., formerly Textron Lycoming): Docket No. FAA-2004-18038; Directorate Identifier 2004-NE-01-AD.

Comments Due Date

(a) The Federal Aviation Administration (FAA) must receive comments on this airworthiness directive (AD) action by August 16, 2004.

Affected ADs

(b) None.

Applicability

(c) This AD applies to Honeywell International Inc., (formerly AlliedSignal, Inc., formerly Textron Lycoming) T5309, T5311, T5313B, T5317A, T5317A-1, and T5317B series turboshaft engines, installed on, but not limited to, Bell 205 and Kaman K-1200 series helicopters, and T53-L-9, T53-L-11, T53-L-13B, T53-L-13BA, T53-L-13B S/SA, T53-L-13B S/SB, T53-L-13B/D, and T53-L-703 series turboshaft engines, installed on, but not limited to, Bell AH-1 and UH-1 helicopters, certified under § 21.25 or 21.27 of the Code of Federal Regulations (14 CFR 21.25 or 14 CFR 21.27).

Unsafe Condition

(d) This AD results from continuous analysis of field-returned hardware indicating smaller service life margins than originally expected. We are issuing this AD to prevent failure of compressor, gas producer, and power turbine rotating components, which could result in an uncontained failure of the engine and damage to the helicopter.

Compliance

(e) You are responsible for having the actions required by this AD performed within the compliance times specified unless the actions have already been done.

T5309, T5311, T53-L-9, and T53-L-11 Series Turboshaft Engines

(f) For T5309, T5311, T53-L-9, and T53-L-11 series turboshaft engines, within 100 operating hours after the effective date of this AD, compute the total operating hours and cycles and replace rotating components before they exceed the service life limits. Use 2.a. through 2.f. and Component Service Life Limits Table 1 of Accomplishment Instructions of Lycoming Service Bulletin (SB) No. 0002, Revision 2, dated March 6, 1989.

T5313B, T5317A, T5317A-1, and T5317B Turboshaft Engines

(g) For T5313B, T5317A, T5317A-1, and T5317B turboshaft engines, within 100 operating hours after the effective date of this AD, compute the total operating hours and cycles and replace the rotating components before they exceed the service life limits. Use 2.A. through 2.K. and Component Service Life Limits Table 1 of Accomplishment Instructions of Honeywell International Inc. SB No. T5313B/17-0020, Revision 7, dated November 21, 2002.

(h) For T513B, T5317A, T5317A-1, and T5317B turboshaft engines that have one or more rotating components that exceed the limits specified in Component Service Life Limits Table 1 of Honeywell International Inc. SB No. T5313B/17-0020, Revision 7, dated November 21, 2002, replace the components using the applicable drawdown schedule in Table 1 of Honeywell International Inc. SB No. T5313B-0125, dated March 15, 2001 or Honey well International Inc. SB No. T5317-0125, dated March 15, 2001.

T53-L-13B, T53-L-13BA, T53-L-13B S/SA, and T53-L-13B S/SB Turboshaft Engines

(i) For T53-L-13B, T53-L-13BA, T53-L-13B S/SA, and T53-L-13B S/SB turboshaft engines, within 100 operating hours after the effective date of this AD, compute the total operating hours and cycles and replace the rotating components before they exceed the service life limits. Use 2.A. through 2.J. and Component Service Life Limits Table 1 of Accomplishment Instructions of Honeywell International Inc. SB No. T53-L-13B-0020, Revision 3, dated October 25, 2001.

(j) For T53-L-13B, T53-L-13BA, T53-L-13B S/SA, and T53-L-13B S/SB turboshaft engines that have one or more rotating components that exceed the limits in Component Service Life Limits Table 1 of Honeywell SB No. T53-L-13B-0020, Revision 3, dated October 25, 2001, replace the components using the applicable drawdown schedule in Table 1 of Honeywell International Inc. SB No. T53-L-13B-0125, dated April 5, 2001.

T53-L-13B/D Turboshaft Engines

(k) For T53-L-13B/D turboshaft engines, within 100 operating hours after the effective date of this AD, compute the total operating hours and cycles and replace the rotating components before they exceed the service life limits. Use 2.A. through 2.J. and Component Service Life Limits Table 1 of Accomplishment Instructions of Honeywell International Inc. SB No. T53-L-13B/D-0020, Revision 2, dated November 25, 2002.

(l) For T53-L-13B/D turboshaft engines that have one or more rotating components that exceed the limits in Component Service Life Limits Table 1 of Honeywell International Inc. SB No. T53-L-13B/D-0020, Revision 2, dated November 25, 2002, replace the components using the applicable drawdown schedule in Table 1 of Honeywell International Inc. SB No. T53-L-13B/D-0125, dated April 5, 2001.

T53-L-703 Turboshaft Engines

(m) For T53-L-703 turboshaft engines, within 100 operating hours after the effective date of this AD, compute the total operating hours and cycles and replace the rotating components before they exceed the service life limits. Use 2.A. through 2.K. and Component Service Life Limits Table 1 of Accomplishment Instructions of Honeywell International Inc. SB No. T53-L-703-0020, Revision 2, dated November 25, 2002.

(n) For T53-L-703 turboshaft engines that have one or more rotating components that have exceeded the limits in Component Service Life Limits Table 1 of Honeywell International Inc. SB No. T53-L-703-0020, Revision 2, dated November 25, 2002, replace the components using the applicable drawdown schedule in Table 1 of Honeywell International Inc. SB No. T53-L-703-0125, dated April 5, 2001.

Computing Compliance Intervals

(o) For the purposes of this AD, use the effective date of this AD for computing compliance intervals whenever the SBs refer to the release date of the SB.

Prohibition of Removed Rotating Components

(p) Do not reinstall any rotating component that is replaced as specified in paragraphs (f) through (n) of this AD, into any engine.

Alternative Methods of Compliance

(q) The Manager, Los Angeles Aircraft Certification Office, has the authority to approve alternative methods of compliance for this AD if requested using the procedures found in 14 CFR 39.19.

Material Incorporated by Reference

(r) None.

Related Information

(s) None.

Issued in Burlington, Massachusetts, on June 3, 2004.
Jay J. Pardee,
Manager, Engine and Propeller Directorate, Aircraft Certification Service.

[FR Doc. 04-13564 Filed 6-15-04; 8:45 am]

BILLING CODE 4910-13-P